DEPARTMENT OF DEFENSE

Office of the Secretary

32 CFR Part 171

[Docket ID: DOD-2018-OS-0051]

RIN 0790-AK42

Wildfire Suppression Aircraft Transfer Act of 1996

AGENCY: Office of the Assistant Secretary of Defense for Sustainment, DoD.

ACTION: Final rule.

SUMMARY: This final rule removes the DoD regulation which implemented law authorizing the sale of aircraft and aircraft parts to entities that contract with the Federal government for the delivery of fire retardant by air in order to suppress wildfire. This authorization has since expired. Existing statutory authorities allow the sale or transfer of aircraft and aircraft parts to Fire Fighter Agencies, rendering this part obsolete and unnecessary.

DATES: This rule is effective on June 12, 2019.

FOR FURTHER INFORMATION CONTACT: Lt. Col. Shonry Webb at 571-372-5217.

SUPPLEMENTARY INFORMATION: It has been determined that publication of this CFR part removal for public comment is impracticable, unnecessary, and contrary to public interest since it is removing obsolete information. This rule implemented the Wildfire Suppression Aircraft Transfer Act of 1996. The law authorized DoD, during the period October 1996 through September 2005, to sell aircraft and aircraft parts to entities that contract with the Federal government for the delivery of fire retardant by air in order to suppress wildfire. This authorization was extended from October 2012 through September 2017, but it has since expired. Existing authorities in 10 U.S. Code 2576—Surplus military equipment: Sale to state and local law enforcement, firefighting, homeland security, and emergency management agencies, allow the sale or transfer of aircraft and aircraft parts to Fire Fighter Agencies. This part is obsolete and unnecessary.

This rule is not significant under Executive Order (E.O.) 12866, “Regulatory Planning and Review,” therefore, the requirements of E.O. 13771, “Reducing Regulation and Controlling Regulatory Costs” do not apply.

List of Subjects in 32 CFR Part 171

Fire prevention.

PART 171—[REMOVED]

Accordingly, by the authority of 5 U.S.C. 301, 32 CFR part 171 is removed.

Dated: June 7, 2019.
Aaron T. Siegel,
Alternate OSD Federal Register Liaison Officer, Department of Defense.

[FR Doc. 2019-12354 Filed 6-11-19; 8:45 am]

BILLING CODE 5001-06-P